DEPARTMENT OF TRANSPORTATION

Federal Aviation Administration

14 CFR Part 71

[Docket No. FAA-2017-0355; Airspace Docket No. 17-AGL-12]

Amendment of Class D and E Airspace; Mosinee, WI

AGENCY: Federal Aviation Administration (FAA), DOT.

ACTION: Final rule, correction.

SUMMARY: This action corrects a final rule published in the Federal Register of August 3, 2017 that modifies Class D and E airspace at Central Wisconsin Airport, Mosinee, WI, to accommodate new standard instrument approach procedures for instrument flight rules (IFR) operations at the airport. The FAA identified that, in the Class E airspace area extending upward from 700 feet above the surface, the Wausau VORTAC was not removed as a result of the decommissioning of the Mosinee outer marker (OM) and DANCI locator outer marker (LOM) and cancellation of the associated approaches.

DATES: Effective 0901 UTC, August 24, 2017. The Director of the Federal Register approves this incorporation by reference action under Title 1, Code of Federal Regulations, part 51, subject to the annual revision of FAA Order 7400.11 and publication of conforming amendments.

FOR FURTHER INFORMATION CONTACT: Walter Tweedy, Federal Aviation Administration, Operations Support Group, Central Service Center, 10101 Hillwood Parkway, Fort Worth, TX, 76177; telephone (817) 222-5900.

SUPPLEMENTARY INFORMATION:

History

The FAA published a final rule in the Federal Register (82 FR 36078, August 3, 2017) Docket No. FAA-2017-0355, modifying Class D airspace and Class E airspace at Central Wisconsin Airport, Mosinee, WI.

Subsequent to publication, The FAA found that the Wausau VORTAC was inadvertently left in the airspace description in Class E airspace extending upward from 700 feet above the surface. The segment that contained the Mosinee outer marker and DANCI locator outer marker, associated with the VORTAC, has been removed due to the decommissioning of these navigation aids and, therefore, removes the need for the Wausau VORTAC. This action makes the correction.

Class D and E airspace designations are published in paragraph 5000, 6002 and 6005, respectively, of FAA Order 7400.11A, dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Correction to Final Rule

Accordingly, pursuant to the authority delegated to me, in the Federal Register of August 3, 2017 (82 FR 36078) FR Doc. 2017-16284, Amendment of Class D and E Airspace; Mosinee, WI, is corrected as follows:

§ 71.1 [Amended]

AGL WI E5 Mosinee, WI [Corrected]

On page 36080, column 1, on lines 36 and 37, remove the following text:

Wausau VORTAC

(Lat. 44°50′49″ N., long. 89°35′12″ W.)

Issued in Fort Worth, Texas, on August 15, 2017.
Walter Tweedy,
Acting Manager, Operations Support Group, ATO Central Service Center.

[FR Doc. 2017-17751 Filed 8-23-17; 8:45 am]

BILLING CODE 4910-13-P